Title 3—

The President

Proclamation 9773 of August 17, 2018

National Employer Support of the Guard and Reserve Week, 2018

By the President of the United States of America

A Proclamation

Since the founding of our great Nation, citizens have put their lives on hold to defend our liberty and protect their fellow Americans. Today, more than one million Americans proudly serve in the National Guard and Reserve. During National Employer Support of the Guard and Reserve Week, we take a moment to salute the employers and communities that support our citizen Soldiers, Sailors, Airmen, Marines, and Coast Guardsmen.

Nearly half of our Nation's Armed Forces are comprised of National Guard and Reserve members. These dedicated patriots train throughout the year to be mission-ready at home and abroad. They balance the demands of civilian life with military duties and are a vital component of our national defense strategy. Our National Guardsmen and Reservists serve with distinction in uniform on all fronts—whether it be mitigating the effects of natural disasters and emergencies on our soil, protecting our border, or engaging in combat operations around the globe. And when they take the uniform off, they apply their leadership skills and desire to serve our communities throughout every sector of the civilian world.

Employers who understand and appreciate the critical mission of our National Guard and Reserve provide flexibility and unwavering support in the workplace that empowers Guardsmen and Reservists to make invaluable contributions to our all-volunteer force. We owe a tremendous debt of gratitude to the employers nationwide who understand the importance of a strong and ready military. Offices, organizations, and businesses nationwide accept the inconveniences of disruptive schedules, temporary personnel shortages, and financial burdens, because they know that they are helping sustain and advance something far more valuable than their bottom lines. Guardsmen and Reservists bring invaluable assets of professionalism, commitment, teamwork, and discipline to our Armed Forces and to America's businesses.

My Administration is committed to caring for our military members, veterans, and their families. Many civilian employers share this unwavering dedication and devotion, and they deserve our deepest gratitude. I encourage all Americans to support our brave Guardsmen, Reservists, and their families because of their incalculable sacrifices to secure and maintain our freedom. Let us remember that the generosity, flexibility, and selflessness of their civilian employers are critical to their ability to serve our country most effectively.

NOW, THEREFORE, I, DONALD J. TRUMP, President of the United States of America, by virtue of the authority vested in me by the Constitution and the laws of the United States, do hereby proclaim August 19 through August 25, 2018, as National Employer Support of the Guard and Reserve Week. I call upon all Americans to join me in expressing our heartfelt thanks to the civilian employers who provide critical support to the men and women of the National Guard and Reserve. I also call on State and local officials, private organizations, and all military commanders to observe this week with appropriate ceremonies and activities.

IN WITNESS WHEREOF, I have hereunto set my hand this seventeenth day of August, in the year of our Lord two thousand eighteen, and of the Independence of the United States of America the two hundred and forty-third.

[FR Doc. 2018-18306

Filed 8-21-18; 11:15 am]

Billing code 3295-F8-P